DEPARTMENT OF HEALTH AND HUMAN SERVICES

Centers for Disease Control and Prevention

[30Day-04-04FF]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an e-mail to omb@cdc.gov. Send written comments to CDC Desk Officer, Human Resources and Housing Branch, New Executive Office Building, Room 10235, Washington, DC 20503 or by fax to (202) 395-6974. Written comments should be received within 30 days of this notice.

Proposed Project

Workplace Stress Among Underground Coal Miners—New—The National Institute for Occupational Safety and Health (NIOSH), Centers for Disease Control and Prevention (CDC).

Work-related stress appears to increase the risk of atherosclerotic heart disease, musculoskeletal disorders such as back pain and carpal tunnel syndrome, and clinical depression. The mechanism by which stress increases the risk of chronic disease states is unknown, but is thought to involve abnormal communication between the brain and the endocrine system. Dysfunction of this communication system, called the Hypothalamic-Pituitary-Adrenal (HPA) axis, is found in a number of chronic diseases, including coronary heart disease, diabetes, and rheumatoid arthritis. In a healthy individual, there is flexible communication between the hypothalamus and pituitary gland, both located in the brain, and the adrenal gland, located above the kidneys. When stresses occur throughout the day, cortisol is released from the adrenal gland in response to signals from the brain. Cortisol prepares the body to respond to stress, after which cortisol levels return to normal. Chronic stress, with protracted or repeated challenge to the HPA axis, may lead to inappropriate levels of cortisol, further decline of HPA axis function, and increased risk of chronic disease.

This study will investigate the relationship between workplace stress and function of the HPA axis among a sample population of coal miners. Coal miners experience a number of work-related stresses, such as long hours of work, heavy workloads, shift work, and concerns about stability of employment. Miners will be asked to complete a 25-minute survey which asks about traditional job stressors including shift schedule and rotation, workload, and degree of control over work. The survey also addresses stressors not typically examined in work stress surveys, including time spent in second jobs, commuting time to work, and responsibilities for care of children and the elderly.

Function of the HPA axis will be assessed by obtaining a series of cortisol samples from subjects right after they wake up in the morning. Recent studies have shown that the response of cortisol to awakening, measured in saliva, serves as a good marker of HPA axis function. Miners will be asked to obtain saliva samples at home, and send them to the NIOSH Morgantown laboratory for analysis.

Analyses will examine the relationship between the cortisol response to awakening, an indicator of HPA axis function, and measures of workplace stress. Data collected in this study will help NIOSH determine if workplace stress results in HPA axis dysfunction, which has been linked to a number of chronic disease conditions. The estimated annualized burden is 167 hours.

Respondents | No. of respondents | No. responses per respondent | Average burden per respondent (in hrs.)
Coal Miners | 400 | 1 | 25/60

Dated: August 10, 2004.
Alvin Hall,
Director, Management Analysis and Services Office, Centers for Disease Control and Prevention.

[FR Doc. 04-18676 Filed 8-13-04; 8:45 am]

BILLING CODE 4163-18-P